FEDERAL ELECTION COMMISSION

Sunshine Act Meetings

AGENCY: Federal Election Commission

DATE AND TIME: Thursday, March 5, 2015 at 10:00 a.m.

PLACE: 999 E Street NW., Washington, DC (Ninth Floor).

STATUS: This Meeting Will Be Open To The Public.

ITEMS TO BE DISCUSSED:

Correction and Approval of Minutes for February 12, 2015

Draft Advisory Opinion 2014-20: Make Your Laws PAC, Inc.

Audit Division Recommendation Memorandum on the Republican Party of Orange County (Federal) (RPOC) (A11-23)

Audit Division Recommendation Memorandum on the South Dakota Democratic Party (SDDP) (A11-20)

Audit Division Recommendation Memorandum on the Kentucky State Democratic Central Executive Committee (KDC) (A12-05)

Audit Division Recommendation Memorandum on the 2012 Democratic National Convention Committee, Inc.

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2015-04374 Filed 2-26-15; 4:15 pm]

BILLING CODE 6715-01-P